DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Evaluation of Program Rehabilitation and Restitution—New—The Rehabilitation and Restitution initiative of SAMHSA's Center for Substance Abuse Treatment seeks to reduce recidivism and increase psychosocial functioning and pro-social lifestyle among substance abusing state correctional prisoners. Hypotheses of the study are that providing intensive, long-term case management services will facilitate a pro-social lifestyle leading to higher rates of sealing or expunging of criminal records and that the prospect of stigma reduction provided by a sealed criminal record will motivate offenders to remain crime and drug free for a least three years after completing judicial supervision.

The project consists of (1) providing technical assistance to develop and implement intensive case management services, and (2) an evaluation of the effectiveness of the intensive case management services in increasing the number of people eligible to have their records sealed. The study is confined to jurisdictions with statutes permitting records to be sealed. Two counties in Ohio involving an urban setting (Cuyahoga county which includes the city of Cleveland) and a rural setting (Clermont county adjacent to Kentucky) were selected based on responses to an RFA. Subjects in each county will be drawn from referrals by parole and probation to Treatment Accountability for Safer Communities (TASC) case management programs in the two counties.

The target population consists of individuals entering parole or probation who are first time nonviolent felons with a history of substance abuse and are eligible to have their records sealed. Technical assistance to participating counties will be provided to (1) develop, an intensive case management treatment model designed to increase the proportion of offenders eligible to have records sealed, and (2) involve the various stake holders, such as case managers, parole officers, district attorney's office, public defender, and judges in the implementation of the case management model. A formative evaluation will provide feedback on the implementation of the program. A systems evaluation will examine the number of services offered to the felons, and changes in attitudes towards sealing records on the part of critical stakeholders, such as district attorney offices, judges and service providers. An outcomes evaluation will examine the effect of the intensive case management model on the eligibility to have records sealed, social, psychological and health status, HIV risk behavior, and the actual proportion of subjects who have their records sealed.

The experimental study in Cuyahoga County consists of two groups of randomly assigned subjects. An intent-to-treat group is scheduled to receive intensive case management consisting of an intensive TASC case management model during the one-year period of supervision followed by an additional three years of less intensive case management services. A control group will receive treatment as usual, consisting of the TASC case management model now in place. In Clermont County there will be only an experimental group. The evaluation procedures in both locations will consist of a baseline interview and follow-up interviews over a 4-year period that tracks outcomes to the point at which subjects are eligible for sealing of records. Follow-up interviews and file studies will test for a wide array of possible effects, including recidivism, employment, education, drug use, family relationships, support of children, mental and physical health, HIV/AIDS risk factors, assumption of personal responsibility and life adjustment factors.

The evaluation will involve 900 projected participants over a five-year period. Evaluation interviews will take place at baseline, 6 months, 12 months, and 42-months. Each interview will last 1½ to 2 hours depending of the memory and speed of the respondents. The interview goal is a minimum 80% completion rate. Interview data will be supplemented by a file study of arrest records and the number of criminal records expunged. Additionally, two focus groups of clients in the intent to treat group will be conducted in each county at 3, 6, 12, 18, 24, and 30 months to provide feedback on client perceptions of the case management programs. One group at each site will consist of clients in compliance with the program and one group will consist of clients not in compliance. Groups will consist of 8 to 10 participants chosen at random from the compliant and noncompliant clients. Additional file study data will be gathered on the number of case management sessions and the number and frequency of other interventions in the intent-to-treat and control groups.

Data collection | Number of respondents | Responses/ respondent | Hours per response | Total hr. burden
Baseline Interview | 900 | 1 | 1.33 | 1,197
Follow-up Battery: 6-, 12-, & 42-month | 900 | 3 | 1.50 | 4,050
Client Focus Groups: 3-, 6-,12-,18-, 24-months (Cuyahoga) | 50 | 1 | 1.50 | 75
Client Focus Groups: 3-, 6-, 9-, 12-, 18-, 24-, 36-& 42-months (Clermont) | 80 | 1 | 1.50 | 120
File Data Collection (Staff Time) MCSIS, Ohio DRC, TASC | 3 | 7 | 2.00 | 42
Multimodality Quality Assurance (MQA)—(Treatment Program Staff) | 84 | 1 | .75 | 63
Stakeholders: Attitudes Towards Sealing Records | 12 | 3 | .167 | 6
Stakeholder Focus Groups: 6-,12-, 24-months | 36 | 1 | 1.50 | 54
Key Officials Attitudinal Survey | 12 | 3 | .167 | 6
Total Burden | 1,047 |  |  | 5,613
5-Year Annual Average | 1,047 |  |  | 1,123

Written comments and recommendations concerning the proposed information collection should be sent within 30 days of this notice to: Allison Herron Eydt, Human Resources and Housing Branch, Office of Management and Budget, New Executive Office Building, Room 10235, Washington, DC 20503; due to potential delays in OMB's receipt and processing of mail sent through the U.S. Postal Service, respondents are encouraged to submit comments by fax to: 202-395-6974.

Dated: June 24, 2003.
Anna Marsh,
Acting Executive Officer, Substance Abuse and Mental Health Services Administration.

[FR Doc. 03-16662 Filed 7-1-03; 8:45 am]

BILLING CODE 4162-20-U